DEPARTMENT OF DEFENSE

Office of the Secretary

Defense Science Board; Notice of Federal Advisory Committee Meeting

AGENCY: Under Secretary of Defense for Research and Engineering, Defense Science Board, Department of Defense.

ACTION: Notice of federal advisory committee meeting.

SUMMARY: The Department of Defense (DoD) is publishing this notice to announce that the following Federal Advisory Committee meeting of the Defense Science Board (DSB) will take place.

DATES: Day 1—Closed to the public Tuesday, February 19, 2019 from 8:00 a.m. to 5:00 a.m. Day 2—Closed to the public Wednesday, February 20, 2019 from 8:00 a.m. to 5:00 a.m.

ADDRESSES: The address of the closed meeting is the Executive Conference Center, 4075 Wilson Blvd., Floor 3, Arlington, VA 22203.

FOR FURTHER INFORMATION CONTACT: Lt. Col. Milo W. Hyde, III, U.S. Air Force, (703) 571-0081 (Voice), (703) 697-1860 (Facsimile), milo.w.hyde2.mil@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: This meeting is being held under the provisions of the Federal Advisory Committee Act (FACA) (title 5 United States Code (U.S.C.), Appendix), the Government in the Sunshine Act (title 5 U.S.C., section 552b), and title 41 Code of Federal Regulations (CFR), sections 102-3.140 and 102-3.150.

Purpose of the Meeting: The mission of the DSB is to provide independent advice and recommendations on matters relating to the DoD's scientific and technical enterprise. The objective of the meeting is to obtain, review, and evaluate classified information related to the DSB's mission. DSB membership will meet to discuss the 2019 Sumer Study on the Future of U.S. Military Superiority (“the Summer Study”).

Agenda: The DSB Summer Study meeting will begin on February 19, 2019 at 8:00 a.m. with opening remarks by Lt. Col. Milo Hyde, the Designated Federal Officer, and Dr. Craig Fields, DSB Chairman. Next, the DSB members will meet in small groups to discuss classified ways in which the DoD can secure U.S. interests, manage escalation, and deter and counter adversary aggression, given a renewed great power competition. Finally, the members of the study will meet in a plenary session to discuss classified ways in which the DoD can secure U.S. interests, manage escalation, and deter and counter adversary aggression, given a renewed great power competition. The meeting will adjourn at 5:00 p.m. On February 20, 2019, the members of the study will meet in small groups beginning at 8:00 a.m. to discuss classified ways in which the DoD can secure U.S. interests, manage escalation, and deter and counter adversary aggression, given a renewed great power competition. Next, the members of the study will meet in a plenary session to discuss classified ways in which the DoD can secure U.S. interests, manage escalation, and deter and counter adversary aggression, given a renewed great power competition. The meeting will adjourn at 5:00 p.m.

Meeting Accessibility: In accordance with section 10(d) of the FACA and title 41 CFR, section 102-3.155, the DoD has determined that the DSB meeting will be closed to the public. Specifically, the Under Secretary of Defense (Research and Engineering), in consultation with the DoD Office of General Counsel, has determined in writing that the meeting will be closed to the public because it will consider matters covered by title 5 U.S.C., section 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with section 10(a)(3)of the FACA and title 41 CFR, sections 102-3.105(j) and 102-3.140, interested persons may submit a written statement for consideration by the DSB at any time regarding its mission or in response to the stated agenda of a planned meeting. Individuals submitting a written statement must submit their statement to the DSB Designated Federal Official (DFO) provided above at any point; however, if a written statement is not received at least three calendar days prior to the meeting, which is the subject of this notice, then it may not be provided to or considered by the DSB until a later date.

Dated: January 28, 2019.
Shelly E. Finke,
Alternate OSD Federal Register Liaison Officer, Department of Defense.

[FR Doc. 2019-00425 Filed 1-30-19; 8:45 am]

BILLING CODE 5001-06-P